DEPARTMENT OF THE INTERIOR

National Park Service

Native American Graves Protection and Repatriation Review Committee Findings and Recommendations Regarding Cultural Items in the Possession of the New York State Museum

AGENCY: National Park Service, Interior.

ACTION: Native American Graves Protection and Repatriation Review Committee: Findings and Recommendations.

This notice is published as part of the National Park Service's administrative responsibilities pursuant to the Native American Graves Protection and Repatriation Act (25 U.S.C. 3006 (g)). The findings of fact and recommendations to the disputing parties do not necessarily represent the views of the National Park Service or the Secretary of the Interior.

SUMMARY:

The Native American Graves Protection and Repatriation Review Committee (Review Committee) was established by Section 8 of the Native American Graves Protection and Repatriation Act (NAGPRA; 25 U.S.C. 3006) and is an advisory body governed by the Federal Advisory Committee Act (5 App. U.S.C. 1-16). At its October 11-12, 2008 public meeting in San Diego, CA, the Review Committee, acting pursuant to its responsibilities to convene the parties to a dispute, review the information provided by the parties, and make findings of fact and recommendations relating to the cultural affiliation of the human remains in an inventory, heard a dispute between the Onondaga Nation and the New York State Museum. The issue before the Review Committee was whether the relevant information presented by the Onondaga Nation shows that, more likely than not, a relationship of shared group identity reasonably can be traced between the Onondaga Nation and human remains representing a minimum of 180 individuals which had been removed from the “Engelbert Site,” also known as NYSM Site #171, in Nichols, Tioga County, New York and which are in the possession and under the control of the New York State Museum. The Review Committee found, by a preponderance of the evidence, that a relationship of shared group identity reasonably can be traced between the present-day Onondaga Nation and the human remains from the Engelbert Site.

SUPPLEMENTARY INFORMATION: In 1998, the New York State Museum (the Museum) completed an “Inventory of Native American Human Remains from the Engelbert Site, Tioga County, New York (NYSM Site #171), in the Possession of the New York State Museum” (the inventory). The Native American human remains were excavated and removed from the Engelbert Site in 1967 and 1968, as a result of the construction of the Southern Tier Expressway (New York State Route 17). The Museum had acquired the human remains in question in 1989. The Museum determined that all the human remains in the inventory were culturally unidentifiable.

In 2007, the Onondaga Nation (the Nation) presented to the Museum information relevant to showing cultural affiliation between the Nation and the human remains in question, and requested that the Museum repatriate the human remains listed in the inventory to the Nation. In response, the Museum refused to repatriate the human remains in the inventory to the Nation, asserting that the Nation had not shown cultural affiliation by a preponderance of the evidence.

Disputing the decision of the Museum, the Nation asked the Review Committee to facilitate the dispute between the Nation and the Museum. The Review Committee Chair agreed to the Nation's request.

At its October 11-12, 2008 meeting, the Review Committee considered the dispute between the Nation and the Museum. The sole issue of material fact between the parties was whether the relevant information provided by the Onondaga Nation showed, by a preponderance of the evidence, cultural affiliation between the human remains listed in the inventory and the Nation on the basis of geographical, kinship, biological, archeological, anthropological, linguistic, folkloric, oral traditional, historical, or other relevant information or expert opinion.

FINDINGS OF FACT: By a vote of five to one - six members, comprising a quorum, were present -- the Review Committee found that the preponderance of the evidence shows a relationship of shared group identity between the Onondaga Nation (and the greater Haudenosaunee Confederacy, of which the Nation is a member-nation) and the remains of the 180 Native American individuals in the Engelbert Site inventory.

RECOMMENDATIONS TO THE DISPUTING PARTIES: By a vote of five to one ¯ six members, comprising a quorum, were present -- the Review Committee recommended that, consistent with the NAGPRA criteria, the New York State Museum expeditiously repatriate the remains of the 180 Native American individuals in the Engelbert Site inventory to the Onondaga Nation. In addition, by a unanimous vote ¯ six members, comprising a quorum, were present -- the Review Committee recommended that the New York State Museum reevaluate the cultural affiliation of all the Native American human remains in its possession, or under its control, which, on the basis of their age, the Museum hitherto had determined to be “culturally unidentifiable” and that, in doing so, the Museum use the preponderance of all the available, relevant evidence as the standard for deciding cultural affiliation or lack thereof.

Dated: February 27, 2009
Rosita Worl
Chair, Native American Graves Protection and Repatriation Review Committee

[FR Doc. E9-4668 Filed 3-3-09; 8:45 am]

BILLING CODE 4312-50-S